DEPARTMENT OF ENERGY

Federal Energy Regulatory Commission

Combined Notice of Filings #1

Take notice that the Commission received the following electric corporate filings:

Docket Numbers: EC11-59-000.

Applicants: LS Power Equity Partners, LP, LS Power Associates, L.P., LSP Gen Investors, L.P., LS Power Partners, L.P., LS Power Equity Partners PIE I, L.P., Arlington Valley, LLC, Griffith Energy LLC, Star West Generation LLC.

Description: LS Power Equity Partners, L.P., et al. Application for Authorization of Transaction under section 203 of the Federal Power Act, and Request for Expedited Consideration.

Filed Date: 04/01/2011.

Accession Number: 20110401-5197.

Comment Date: 5 p.m. Eastern Time on Friday, April 22, 2011.

Take notice that the Commission received the following electric rate filings:

Docket Numbers: ER10-2614-004.

Applicants: ENMAX Energy Marketing, Inc.

Description: ENMAX Energy Marketing Inc. request for Category 1 status and an updated Market Power Analysis.

Filed Date: 04/01/2011.

Accession Number: 20110401-5200.

Comment Date: 5 p.m. Eastern Time on Friday, April 22, 2011.

Docket Numbers: ER11-3147-001.

Applicants: Midwest Independent Transmission System Operator, Inc.

Description: Midwest Independent Transmission System Operator, Inc. submits tariff filing per 35.17(b): J143 GIA Errata to be effective 3/19/2011.

Filed Date: 04/01/2011.

Accession Number: 20110401-5127.

Comment Date: 5 p.m. Eastern Time on Friday, April 22, 2011.

Docket Numbers: ER11-3262-000.

Applicants: Trans Bay Cable LLC.

Description: Trans Bay Cable LLC submits tariff filing per 35.13(a)(2)(iii: Tariff Volume 1, Transmission Owner Tariff to be effective 3/31/2011.

Filed Date: 04/01/2011.

Accession Number: 20110401-5000.

Comment Date: 5 p.m. Eastern Time on Friday, April 22, 2011.

Docket Numbers: ER11-3263-000.

Applicants: Western Reserve Energy Services, LLC.

Description: Western Reserve Energy Services, LLC submits tariff filing per 35.12: Petition for Acceptance of Initial Tariff, Waivers and Blanket Authority to be effective 6/4/2011.

Filed Date: 04/01/2011.

Accession Number: 20110401-5002.

Comment Date: 5 p.m. Eastern Time on Friday, April 22, 2011.

Docket Numbers: ER11-3264-000.

Applicants: PJM Interconnection, L.L.C., Virginia Electric and Power Company.

Description: PJM Interconnection, L.L.C. submits tariff filing per 35.13(a)(2)(iii: Interconnection Service Agreement No. 2444 between Dominion and TrAILCo to be effective 4/11/2011.

Filed Date: 04/01/2011.

Accession Number: 20110401-5030.

Comment Date: 5 p.m. Eastern Time on Friday, April 22, 2011.

Docket Numbers: ER11-3265-000.

Applicants: American Transmission Systems, Incorporation, PJM Interconnection, L.L.C.

Description: American Transmission Systems, Incorporated submits tariff filing per 35.13(a)(2)(iii: Interconnection Agmt between AMP & First Energy on behalf of ATSI—SA No. 2852 to be effective 6/1/2011.

Filed Date: 04/01/2011.

Accession Number: 20110401-5062.

Comment Date: 5 p.m. Eastern Time on Friday, April 22, 2011.

Docket Numbers: ER11-3266-000.

Applicants: American Transmission Systems, Incorporation, PJM Interconnection, L.L.C.

Description: American Transmission Systems, Incorporated submits tariff filing per 35.13(a)(2)(iii: Interconnection Agmt between Buckeye & First Energy for ATSI—SA No. 2853 to be effective 6/1/2011.

Filed Date: 04/01/2011.

Accession Number: 20110401-5064.

Comment Date: 5 p.m. Eastern Time on Friday, April 22, 2011.

Docket Numbers: ER11-3267-000.

Applicants: Lavalley Energy, LLC.

Description: Lavalley Energy, LLC submits tariff filing per 35.1: Lavalley Energy FERC Electric Tariff to be effective 4/1/2011.

Filed Date: 04/01/2011.

Accession Number: 20110401-5070.

Comment Date: 5 p.m. Eastern Time on Friday, April 22, 2011.

Docket Numbers: ER11-3268-000.

Applicants: American Transmission Systems, Incorporation, PJM Interconnection, L.L.C.

Description: American Transmission Systems, Incorporated submits tariff filing per 35.13(a)(2)(iii: Interconnection Agmt between CPP & First Energy for ATSI—SA No. 2854 to be effective 6/1/2011.

Filed Date: 04/01/2011.

Accession Number: 20110401-5071.

Comment Date: 5 p.m. Eastern Time on Friday, April 22, 2011.

Docket Numbers: ER11-3269-000.

Applicants: ISO New England Inc., Connecticut Light and Power Company, Western Massachusetts Electric Company, New England Power Company.

Description: ISO New England Inc. submits tariff filing per 35.13(a)(2)(iii: NU-NGRID NEEWS Regional CWIP Recovery to be effective 6/1/2011.

Filed Date: 04/01/2011.

Accession Number: 20110401-5110.

Comment Date: 5 p.m. Eastern Time on Friday, April 22, 2011.

Docket Numbers: ER11-3270-000.

Applicants: PJM Interconnection, L.L.C.

Description: PJM Interconnection, L.L.C. submits tariff filing per 35.13(a)(2)(iii: Revisions to the Tariff Attach L & RAA Sched 17 to add CPP as a Trans. Owner to be effective 6/1/2011.

Filed Date: 04/01/2011.

Accession Number: 20110401-5165.

Comment Date: 5 p.m. Eastern Time on Friday, April 22, 2011.

Docket Numbers: ER11-3271-000.

Applicants: PJM Interconnection, L.L.C.

Description: PJM Interconnection, L.L.C. submits tariff filing per 35.13(a)(2)(iii: Revisions to the TOA Attachment A to add CPP as a Transmission Owner to be effective 6/1/2011.

Filed Date: 04/01/2011.

Accession Number: 20110401-5172.

Comment Date: 5 p.m. Eastern Time on Friday, April 22, 2011.

Docket Numbers: ER11-3273-000.

Applicants: RJF-Morin Energy, LLC.

Description: RJF-Morin Energy, LLC submits tariff filing per 35.1: RJF-Morin Energy FERC Electric Tariff to be effective 4/1/2011.

Filed Date: 04/01/2011.

Accession Number: 20110401-5205.

Comment Date: 5 p.m. Eastern Time on Friday, April 22, 2011.

Docket Numbers: ER11-3274-000.

Applicants: Entergy Arkansas, Inc.

Description: Entergy Arkansas, Inc. submits tariff filing per 35.13(a)(2)(iii: OATT Amendments to Recover Ice Storm Costs to be effective 6/1/2011.

Filed Date: 04/01/2011.

Accession Number: 20110401-5206.

Comment Date: 5 p.m. Eastern Time on Friday, April 22, 2011.

Docket Numbers: ER11-3275-000.

Applicants: Niagara Mohawk Power Corporation.

Description: Niagara Mohawk Power Corporation submits Notice of Cancellation of the Second Revised Service Agreement No. 1154 with Project Orange Associates, LLC.

Filed Date: 04/01/2011.

Accession Number: 20110401-0201.

Comment Date: 5 p.m. Eastern Time on Friday, April 22, 2011.

Docket Numbers: ER11-3276-000.

Applicants: Midwest Independent Transmission System Operator, Inc.

Description: Midwest Independent Transmission System Operator, Inc. submits tariff filing per 35.13(a)(2)(iii: 04-01-11 MRES to be effective 6/1/2011.

Filed Date: 04/01/2011.

Accession Number: 20110401-5247.

Comment Date: 5 p.m. Eastern Time on Friday, April 22, 2011.

Docket Numbers: ER11-3277-000.

Applicants: Sky River LLC.

Description: Sky River LLC submits tariff filing per 35.1: Sky River LLC's Open Access Transmission Tariff to be effective 4/2/2011.

Filed Date: 04/01/2011.

Accession Number: 20110401-5256.

Comment Date: 5 p.m. Eastern Time on Friday, April 22, 2011.

Docket Numbers: ER11-3278-000.

Applicants: PacifiCorp.

Description: PacifiCorp submits tariff filing per 35.13(a)(2)(iii: WAPA RS 45, RS 672, RS 673 to be effective 6/1/2011.

Filed Date: 04/01/2011.

Accession Number: 20110401-5271.

Comment Date: 5 p.m. Eastern Time on Friday, April 22, 2011.

Docket Numbers: ER11-3279-000.

Applicants: Midwest Independent Transmission System Operator, Inc.

Description: Midwest Independent Transmission System Operator, Inc. submits tariff filing per 35.13(a)(2)(iii: 04-01-11 Schedule 37 to be effective 6/1/2011.

Filed Date: 04/01/2011.

Accession Number: 20110401-5289.

Comment Date: 5 p.m. Eastern Time on Friday, April 22, 2011.

Docket Numbers: ER11-3280-000.

Applicants: Midwest Independent Transmission System Operator, Inc.

Description: Midwest Independent Transmission System Operator, Inc. submits tariff filing per 35: 04-01-2011 NDEX Compliance Filing to be effective 6/1/2011.

Filed Date: 04/01/2011.

Accession Number: 20110401-5290.

Comment Date: 5 p.m. Eastern Time on Friday, April 22, 2011.

Docket Numbers: ER11-3281-000.

Applicants: Midwest Independent Transmission System Operator, Inc.

Description: Midwest Independent Transmission System Operator, Inc. submits tariff filing per 35.13(a)(2)(iii: 4-1-2011 Module F to be effective 6/1/2011.

Filed Date: 04/01/2011.

Accession Number: 20110401-5294.

Comment Date: 5 p.m. Eastern Time on Friday, April 22, 2011.

Docket Numbers: ER11-3282-000.

Applicants: Alcoa Power Generating Inc.

Description: Alcoa Power Generating Inc. submits tariff filing per 35.1: APGI—CRT TSA Rate Schedule to be effective 4/2/2011.

Filed Date: 04/01/2011.

Accession Number: 20110401-5310.

Comment Date: 5 p.m. Eastern Time on Friday, April 22, 2011.

Take notice that the Commission received the following electric securities filings:

Docket Numbers: ES11-22-000.

Applicants: Midwest Independent Transmission System Operator, Inc.

Description: Application of The Midwest Independent Transmission System Operator, Inc under section 204 of the Federal Power Act To Issue Securities.

Filed Date: 04/01/2011.

Accession Number: 20110401-5157.

Comment Date: 5 p.m. Eastern Time on Friday, April 22, 2011.

Take notice that the Commission received the following electric reliability filings:

Docket Numbers: RR11-1-000.

Applicants: Southwest Power Pool Regional Entity, Nebraska Public Power District.

Description: Petition of Southwest Power Pool Regional Entity for Review of Decision of North American Electric Reliability Corporation in RR11-1.

Filed Date: 03/31/2011.

Accession Number: 20110331-5331.

Comment Date: 5 p.m. Eastern Time on Thursday, April 21, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: April 4, 2011.
Nathaniel J. Davis, Sr.,
Deputy Secretary.

[FR Doc. 2011-8522 Filed 4-8-11; 8:45 am]

BILLING CODE 6717-01-P